DEPARTMENT OF HEALTH AND HUMAN SERVICES

National Institutes of Health

Center for Scientific Review; Amended Notice of Meeting

Notice is hereby given of a change in the meeting of the Center for Scientific Review Special Emphasis Panel, November 12, 2000, 8 am to November 12, 2000, 6 pm, Holiday Inn—Bethesda, 8120 Wisconsin Avenue, Bethesda, MD, 20814 which was published in the Federal Register on November 2, 2000, 65 FR 65870-65872.

The meeting will be November 12, 2000, 7 pm to November 13, 2000, 3:30 pm. The location remains the same. The meeting is closed to the public.

Dated: November 6, 2000.
LaVerne Y. Stringfield,
Director, Office of Federal Advisory Committee Policy.

[FR Doc. 00-29145 Filed 11-14-00; 8:45 am]

BILLING CODE 4140-01-M